POSTAL SERVICE

Board of Governors; Sunshine Act Meeting

Times and Dates: 6 p.m., Monday, September 21, 2009; 1 p.m., Tuesday, September 22, 2009; and 8 a.m., Wednesday, September 23, 2009.

Place: Washington, DC, at U.S. Postal Service Headquarters, 475 L'Enfant Plaza, SW.

Status: Closed.

Matters to be Considered:

Monday, September 21 at 6 p.m. (Closed)

1. Financial Matters.

2. Strategic Issues.

3. Pricing.

4. Personnel Matters and Compensation Issues.

5. Governors' Executive Session—Discussion of prior agenda items and Board Governance.

Tuesday, September 22 at 1 p.m. (Closed)

Continuation of Monday's agenda.

Wednesday, September 23 at 8 a.m. (Closed)—if needed

Continuation of Monday's agenda.

Contact Person for More Information: Julie S. Moore, Secretary of the Board, U.S. Postal Service, 475 L'Enfant Plaza, SW., Washington, DC 20260-1000. Telephone (202) 268-4800.

Julie S. Moore,
Secretary.

[FR Doc. E9-22241 Filed 9-11-09; 11:15 am]

BILLING CODE 7710-12-P